DEPARTMENT OF STATE

[Public Notice 6790]

Suggestions for Updated 2009-2011 Plan of Action for Working Group on Environmental Cooperation Established Pursuant to the United States—Morocco Joint Statement on Environmental Cooperation

ACTION: Notice and request for comments.

SUMMARY: The Department of State is soliciting ideas and suggestions for environmental cooperation projects between the United States and Morocco. The United States and Morocco are in the process of developing an updated 2009-2011 Plan of Action pursuant to the United States-Morocco Joint Statement on Environmental Cooperation issued in 2004. The Joint Statement outlines broad areas of environmental cooperation to assist Morocco in complying with its obligations under the United States-Morocco Free Trade Agreement. It is envisioned that the 2009-2011 Plan of Action will focus on the following themes: (1) Institutional and policy strengthening for effective implementation and enforcement of environmental laws, (2) biodiversity conservation and improved management of protected areas, and other ecologically important ecosystems, (3) improved private sector environmental performance, and (4) environmental education, transparency, and public participation in environmental decision-making and enforcement.

The Department of State invites Government agencies and the public, including NGOs, educational institutions, private sector enterprises, and other interested persons, to submit written comments or suggestions regarding items for the Plan of Action. In preparing such comments or suggestions, we encourage submitters to refer to: (1) The U.S.-Morocco Joint Statement on Environmental Cooperation, (2) the 2005-2007 Plan of Action, (3) the Free Trade Agreement between the United States and Morocco, (4) the 2004 Final Environmental Review of the U.S.-Morocco Free Trade Agreement, and (5) the website of the Moroccan Ministry of the Environment (French and Arabic) which are all available or linked at: http://www.state.gov/g/oes/env/trade/. In the near future, the Department of State will be seeking ideas and suggestions for environmental cooperation projects with U.S. Free Trade Agreement partners Bahrain and Oman through similar Federal Register notices.

DATES: To be assured of timely consideration, all written comments or suggestions are requested no later than November 4, 2009.

ADDRESSES: Written comments or suggestions should be e-mailed (LowtherAB@state.gov) or faxed ((202) 647-1052) to Alan Lowther, U.S. Department of State, Bureau of Oceans, Environment, and Science, Office of Environmental Policy, with the subject line “U.S.-Morocco Work Plan on Environmental Cooperation.” For those with access to the Internet, comments may be submitted at the following address: http://www.regulations.gov/search/Regs/home.html#home.

FOR FURTHER INFORMATION CONTACT: Alan Lowther, telephone (202) 647-6777.

SUPPLEMENTARY INFORMATION: In Paragraph 5 of the U.S.-Morocco Joint Statement on Environmental Cooperation, the United States and Morocco announced the establishment of a Working Group on Environmental Cooperation intended to meet regularly. The mandate of the Working Group is to advance environmental protection in Morocco by developing cooperative environmental activities that take into account environmental priorities and that are agreed to by the two Governments. The Working Group will develop a Plan of Action towards meeting this goal.

The 2005-2007 Plan of Action focused on a set of mutually identified goals in line with the main themes of cooperation noted above. These goals were: (1) Strengthening the capacity to develop, implement and enforce environmental laws and regulations, (2) encouraging the development of incentives and voluntary mechanisms to contribute to the achievement and maintenance of high levels of environmental protection, (3) promoting opportunities for public participation in environmental protection efforts and improving public access to information and access to justice on environmental issues, (4) protecting coastal environmental zones and estuaries and preventing the over-exploitation of fisheries resources, (5) safeguarding important natural resources, such as water, and protected areas in Morocco, and (6) promoting the growth of the environmental-technology business sector. Some indicative actions undertaken in these areas have included workshops on environmental impact assessment and the use of economic incentives for environmental decision making. Ongoing work includes: Assistance to Morocco on enhanced compliance with the Convention on International Trade in Endangered Species of Wild Flora and Fauna (CITES) through legislation; technical assistance for a plan to enforce environmental rules in the textile sector; and development of a plan to manage waste from olive oil factories. The United States Agency for International Development, the Department of the Interior, the Department of Commerce, the Environmental Protection Agency, the Department of Agriculture and the Trade and Development Agency and others have been involved in implementing these activities. The 2009-2011 Plan of Action seeks to build upon the progress made in the previous Plan of Action.

The Plan of Action to be developed envisions cooperative activities in four main priority areas: Institutional and policy strengthening; biodiversity conservation and improved management of protected areas; improved private sector environmental performance; and environmental education, transparency, and public participation in environmental decision-making and enforcement.

Please refer to the State Department Web site at http://www.state.gov/g/oes/env/trade/.

Dated: October 13, 2009.
Lawrence J. Gumbiner,
Director, Office of Environmental Policy, U.S. Department of State.

[FR Doc. E9-25081 Filed 10-16-09; 8:45 am]

BILLING CODE 4710-09-P